DEPARTMENT OF COMMERCE

National Oceanic and Atmospheric Administration

[I.D. 121500C]

Notice of Availability of Final Stock Assessment Reports

AGENCY: National Marine Fisheries Service (NMFS), National Oceanic and Atmospheric Administration (NOAA), Commerce.

ACTION: Notice of completion and availability of final marine mammal stock assessment reports; response to comments.

SUMMARY: NMFS has incorporated public comments into revisions of marine mammal stock assessment reports (SARs). The 2000 final SARs are now complete and available to the public.

ADDRESSES: Send requests for printed copies of reports to: Chief, Marine Mammal Division, Office of Protected Resources, National Marine Fisheries Service, 1315 East-West Highway, Silver Spring, MD 20910-3226, Attn: Stock Assessments.

Copies of the regional reports may also be requested from: Anita Lopez, Alaska Fisheries Science Center (F/AKC), NMFS, 7600 Sand Point Way, NE BIN 15700, Seattle, WA 98115-0070 (Alaska); or Richard Merrick, Northeast Fisheries Science Center, 166 Water St., Woods Hole, MA 02543 (Atlantic); or Tim Price, Southwest Regional Office (F/SWO3), NMFS, 501 West Ocean Boulevard, Long Beach, CA 90802-4213 (Pacific).

FOR FURTHER INFORMATION CONTACT: Thomas Eagle, Office of Protected Resources, NMFS,(301) 713-2322, ext. 105; Anita Lopez (206) 526-4045, regarding Alaska regional stock assessments; Tim Price, (562) 980-4020, regarding Pacific regional stock assessments; and Richard Merrick, (508) 495-2291, or Steven Swartz, (305) 361-4487, regarding Atlantic regional stock assessments.

SUPPLEMENTARY INFORMATION: Section 117 of the Marine Mammal Protection Act (MMPA) (16 U.S.C. 1361 et seq.) required NMFS and the U.S. Fish and Wildlife Service (FWS) to prepare stock assessments for each stock of marine mammals that occurs in waters under the jurisdiction of the United States. These reports must contain information regarding the distribution and abundance of the stock, population growth rates and trends, estimates of annual human-caused mortality and serious injury from all sources, descriptions of the fisheries with which the stock interacts, and the status of the stock. Initial reports were completed in 1995.

The MMPA also requires NMFS and FWS to review these reports annually or every 3 years for non-strategic stocks and revise them if the status of the stock has changed or can be more accurately determined. These updated reports represent the 2000 revisions of reports for which NMFS is responsible.

Draft 2000 SARs were made available for a 90-day public review and comment period on May 18, 2000 (65 FR 31520). Prior to their release for public review and comment, NMFS subjected the draft reports to internal technical review and to scientific review by regional Scientific Review Groups (SRGs) established under the MMPA. Following the close of the comment period, NMFS revised the reports as needed to prepare final 2000 SARs. Printed copies may be obtained by request (see ADDRESSES).

In response to a request from the three regional SRGs, NMFS appended the most recent copies of the SARs for polar bears, sea otters, walrus, and manatees to NMFS' final 2000 SARs. These reports were prepared by the FWS and were included so that interested constituents would have reports for all regional stocks in a single document.

Response to Comments

NMFS received four letters containing comments on the draft 2000 SARs. Each letter contained multiple comments, and three of these letters addressed reports on stocks in each of the three regional reports. Other comments were related to national issues common among the regional reports. The comments and responses below are separated according to the regional scope of the comments. A few of these comments addressed minor editorial suggestions for specific reports, and these are not included below

National

Comment 1: Many comments recommended additional research, monitoring, or conservation measures based on information contained in the draft SARs. For example, several comments noted that mortality estimates of some stocks were not reliable because adequate observer programs had not been implemented in several fisheries. Others stated that NMFS must convene additional take reduction teams.

Response: NMFS understands that abundance and mortality estimates for many stocks of marine mammals are less precise or current than if they were based on additional information. Such a situation is the unfortunate consequence of a finite budget and many conservation issues. NMFS prioritizes abundance estimates according to the age and precision of the estimate and the estimated mortality level, particularly mortality incidental to commercial fishing interactions. When annual mortality is considered to be relatively small, the priority for updating the estimate is low. In those cases in which a low mortality rate (e.g., less than 10 per year) exceeds a Potential Biological Removal (PBR) level calculated from an abundance estimate that included only a small part of the stock's range (e.g., false killer whale, Hawaiian stock), the priority for obtaining an abundance estimate is low relative to many other situations. Other than a rotating observer program in the Alaska Region, existing observer programs are tied directly to existing take reduction plans. NMFS will not be able to implement large, new observer programs until new funds are available or until the success of the current take reduction plans makes the associated observer programs unnecessary. Although NMFS recognizes that fishery-related mortality exceeds PBR in some stocks of marine mammals, no new take reduction team, other than one for the coastal stock of Atlantic bottlenose dolphins, can be convened until additional funds are appropriated or until funds can be redirected from existing take reduction plans that have been declared successful.

Comment 2: The SARs include many stocks of marine mammals with abundance estimates that are at least 5 years old. According to the guidelines for developing SARs, the calculated PBR values should be decreased by 20 percent per year when minimum population estimates are more than 5 years old. The commenter encourages NMFS to follow these guidelines throughout the SARs and to schedule population surveys to obtain current abundance estimates for management and to avoid these default PBRs and their possible impacts on fisheries. Other comments also noted abundance estimates that were old and recommended that PBR be changed to zero for several stocks of marine mammals nationally.

Response: NMFS and FWS prepared guidelines for the initial stock assessment reports in 1995 and included a provision for reducing the PBR where abundance estimates were more than 5 years old. NMFS and FWS reviewed these guidelines, in consultation with the regional SRGs, after the initial reports were completed to evaluate how well the guidelines were performing and to revise as appropriate. Following the review, the guidelines were revised to state that abundance estimates older than 8 years are not reliable indicators of the current number of marine mammals in the affected stock. The revised guidelines state that PBR will be undefined when abundance estimates are more than 8 years old. All assessment reports and the guidelines for preparing them are available electronically (see Electronic Access).

Comment 3: There is an inconsistency to the cycle in which regions revise stock assessments. For example, Alaska has revised some stock assessments while the Pacific Region revised all stock assessments. Some stocks may be experiencing declines or other significant impacts and warrant more frequent review.

Response: MMPA section 117(c) provides that SARs are to be reviewed based on an established schedule (at least annually for strategic stocks or stocks for which significant new information is available; at least once every 3 years for all other stocks). When it is determined, based on review, that the status of the stock has changed or can be more accurately determined, the SAR must be revised. The Pacific SRG requested that reports for non-strategic stocks be reviewed as a group every 3 years. The Alaska SRG requested that NMFS review and revise, as needed, one third of the reports annually so that each is reviewed every 3 years. Thus, the reports for non-strategic stocks in both regions are reviewed and updated, as needed, every 3 years.

Comment 4: All regions s hould provide two summary charts in the revised SARs. The first should show which portions of which stock assessments had been revised. The second chart would provide a summary of the fisheries in each region.

Response: NMFS will attempt to include these summary tables in future SARs.

Alaska Regional SAR

Comment 1: The lack of monitoring in a number of coastal gillnet fisheries appears likely to lead to an underestimate of mortality in harbor porpoise stocks.

Response: NMFS clearly indicates in each harbor porpoise SAR that the estimates of mortality in these stocks are underestimated because of a lack of monitoring of coastal fisheries.

Comment 2: The commenter noted that the Gulf of Alaska harbor seal stock is not considered strategic at this time. However, because of the ongoing decline in this stock and the discussion of the need to split the stock into smaller management units, NMFS should consider this stock strategic and review the SAR annually.

Response: NMFS reviews its new information regularly. If significant new information became available that would allow the status of the harbor seal stocks to be described more accurately, then NMFS would update the reports as a result of the new information. In addition, it should be noted that, although this stock appears to be at a lower population level than estimated during the 1970s and 1980s, there is little evidence that the stock is currently declining.

Comment 3:The commenter suggested that NMFS consider changing the stock structure of Dall's porpoise to indicate a delineation between the Bering Sea and western North Pacific and that there may also be sufficient information to delineate an eastern North Pacific stock of Dall’s porpoise.

Response: NMFS will consider this comment during the next review of this stock in 2002. The pertinent information has not been sufficiently reviewed to include in the final 2000 SAR.

Comment 4: The commenter noted that there are no data provided on the subsistence harvest of northern fur seals during 1997 and 1998. This should be remedied.

Response: NMFS agrees and will include the information in the 2001 SAR.

Comment 5: There is currently no PBR established for the northern right whale stock in the north Pacific due to lack of information about population size. The commenter recommended that the PBR for this stock of right whales be set at zero as it has been for the western North Atlantic stock.

Response: The PBR for the western North Atlantic stock of right whales has been set to zero because the population is small and appears to be declining. Because no minimum population level or trend is currently available for the eastern North Pacific stock of northern right whales, a PBR cannot be calculated at this time. When sufficient information becomes available, NMFS would include a PBR estimate in the report.

Comment 6: The reports for minke whales and fin whales have not been revised, despite the fact that the fin whale stock is a strategic stock and the minke whale SAR has not been revised since 1997.

Response: NMFS reviews the SAR for the fin whale stock every year. However, because no new information has become available on the fin whale or the minke whale stocks, the SARs have not been updated. The SAR must be updated when the status of the stock has changed or new information allows its status to be determined more accurately. NMFS, however, tries to include any new information when it becomes available.

Comment 7: At this time, the SAR for bowhead whales includes estimates of the subsistence harvest only through 1996. These estimates are provided annually to the International Whaling Commission, and NMFS should update the information in the SAR.

Response: NMFS agrees and will include the information in the 2001 SAR.

Comment 8: NMFS should consider developing an index of abundance for those stocks for which entire population estimates will be very difficult to obtain.

Response: NMFS uses minimum abundance estimates, which may be based upon surveys of only a portion of the stock's range, when information is available. Section 117(a) gives detailed guidance on the information to be included in SARs, and the guidance does not include indices of abundance.

Cook Inlet Beluga Whales

Comment 1: NMFS should include details of the new correction factor that has been applied to the counts of beluga whales in Cook Inlet in the stock assessment report. Information related to the new correction factor should be published for review.

Response: The SARs are designed to be a brief report on the status of the stock, including summaries of specific information required in the MMPA. For brevity and clarity, the details and methods used to prepare the various estimates in the reports are not included in the SAR; rather, interested readers may use the cited references that include such detail. Pertinent description of the new correction factor can be found in Hobbs et al. 1999, which is currently in review and should be published soon. In the interim, a copy of the paper may be obtained by contacting NMFS (see FOR FURTHER INFORMATION CONTACT).

Comment 2: One commenter indicated the draft SAR is in error because it indicates that early estimates of the beluga whale population, such as those in Klinkhart (1966) and Calkins (1983), are uncorrected counts rather than population estimates corrected for animals that were underwater at the time of the survey.

Response: NMFS has conducted a review of the literature on which this statement is based and is confident that the draft SAR appropriately characterizes the early estimates as direct counts of individuals. Although Klinkhart (1966) does not identify whether the numbers provided are direct counts or estimates, Calkins (1987) clearly refers to the numbers reported in Klinkhart (1996) and other reports as being direct counts that do not account for animals that were missed during the survey.

Comment 3: Delete the statement that indicated a retraction of the range of the beluga whales in Cook Inlet.

Response: This statement on the range of the beluga stock is based on a thorough review of reports and data on beluga whale distribution in Cook Inlet in June and July collected through 1999. Beluga were sighted frequently in the central and lower regions of Cook Inlet in June/July during the 1970s and 1980s. In contrast, virtually no beluga have been found in central or lower Cook Inlet during June/July since 1995. These observations support the statement made in the SAR; however, the text of the SAR was modified to specify that the between-year comparisons of beluga distribution are being made for June/July only.

Comment 4: The only “habitat concerns” listed in the SAR pertains to the oil and gas industry and imply “adverse impacts” related to planned lease sales. This section should be updated to reflect the conclusions in the Federal Register notice which announced that listing of the Cook Inlet beluga stock under the ESA was not warranted.

Response: NMFS agrees, and the text has been updated.

Comment 5: NMFS should adhere to the SRG’s recommendation and set the recovery factor for Cook Inlet beluga whales at 0.1.

Response: A recovery factor of 0.3 is appropriate. The stock was listed as depleted under the MMPA in 2000, and a depleted designation is typically associated with a recovery factor of 0.5. Thus, using a recovery factor of 0.3 is conservative relative to the typical approach used for depleted stocks. Recent observer programs have not documented any injuries or mortalities of this stock incidental to commercial salmon gillnet fisheries in Cook Inlet. Further, the available evidence on contaminants and prey availability indicates that these are not likely to be a factor in the observed decline of Cook Inlet beluga whales. Therefore, the only known significant human-related mortality source for this stock is subsistence harvest. This harvest has been substantially reduced through legislation and cooperative efforts between NMFS and Alaska Native hunters. Because the only source of human-related mortality is being adequately addressed, it is unnecessarily conservative to take additional measures to further reduce the PBR by reducing the recovery factor below the recommended level of 0.3.

Comment 6: The status of listings and legal action should be updated in the final SAR.

Response: SARs must include information on the status of marine mammal stocks. Under this general guidance, NMFS typically includes the latest information on any designations under the MMPA or ESA. Thus, the SAR for the Cook Inlet stock of beluga whales was changed to show that the stock has been designated as depleted under the MMPA. However, including information on pending legal action does not provide information on the status of the stock, so this information is not included in the SAR.

Comment 7: The omission of 1997 and 1998 estimates of the range of the subsistence harvest is troubling.

Response: A range of the subsistence harvest is not provided for 1997 and 1998 because the best available information allows only a point estimate for each year.

Steller Sea Lions

Comment 1: NMFS selected a recovery factor of 0.75 for the eastern Steller sea lion stock. Given that this stock is listed as threatened and is likely to remain so, NMFS should use the more conservative recovery factor of 0.5 for this stock, as it has for other threatened marine mammal stocks.

Response: The eastern stock is relatively large and appears to be stable in some areas, increasing in others, and decreasing only in California; therefore, a recovery factor of 0.75 is reasonable. The Alaska SRG reviewed this recovery factor and concurred with its use.

Comment 2: The draft SAR for the eastern stock of Steller sea lions indicates that counts made during 1996 were used as the best estimate of minimum population size. The draft SAR also indicates that, in the next revision, NMFS will combine counts from a partial survey conducted in 1998 with counts from another partial survey in 1999 to provide a total count for the entire stock. The commenter suggests combining 1998 counts with 1996 counts in the final SAR for 2000 to ensure that the count data are as updated as possible.

Response: The steps NMFS uses in preparing and releasing SARs include review of the draft reports and associated information by SRGs prior to soliciting public review and comment. When a comment requests substantive information or analyses be included in a SAR, it would cause a long delay to obtain SRG review of reports that have been revised following public review and comment. Because the reports are revised according to a schedule outlined in the MMPA, substantive changes to draft SARs would more efficiently be included in the next cycle of review and revision. Therefore, the 2001 revision will include the new estimates and will be made available for public review and comment after review by the Alaska SRG

Comment 3: The commenter notes that NMFS included mortality from Canadian aquaculture operations in its summary of annual mortality estimates for the eastern stock.

Response: Comment noted.

Comment 4: The PBR level for the western stock of Steller sea lions should be zero in order to be consistent with other regions whose endangered stocks are currently declining; it is also inappropriate to use a positive maximum productivity value for a stock that is declining.

Response: NMFS continues to use the PBR level included in the draft SAR. The abundance of this stock is much higher than that of the other endangered stocks that are declining (e.g., Hawaiian monk seal and western North Atlantic right whale); therefore, the use of a zero PBR level is not necessary for the Western U.S. stock of Steller sea lions.

Comment 5: Subsistence harvest data are included only for 1993-1995. The lack of data from 1996-1998 represents a large time lag which confounds the understanding of the status of the western stock and the relative contribution of various sources of mortality to the ongoing decline. NMFS should address the problem of incomplete or disputed kill data.

Response: Reliable harvest data for 1996-1998 are currently not available.

Comment 6: NMFS should address the fact that the subsistence harvest of the western stock (412 annual average) is well in excess of the calculated PBR (234).

Response: Although harvest estimates for 1996-1998 are not reliable, precise estimates, it appears that recent harvest levels are well below the average value shown in the SAR. In addition, NMFS is working with appropriate Alaska Native organizations to ensure that harvest levels for Steller sea lions are sustainable.

Comment 7: There is no mention made of strandings in this stock assessment. If there are no animals found stranded from this stock, this should be clearly stated in the SAR.

Response: According to NMFS' records, there have been some strandings of individuals from the western stock of Steller sea lion. This information will be updated in the 2001 SARs.

Comment 8: Steller sea lions (western U.S. stock) have been intentionally killed to reduce perceived damage to commercial fishing gear and catch in Japanese waters. If this is still the case, then the “Other Mortality” section of the SAR should be expanded to provide information on this source of mortality.

Response: Estimates of this intentional mortality will be included in the draft 2001 SARs.

Gray Whales

Comment 1: NMFS should update the gray whale SAR to include the recent gray whale strandings observed along the migratory path and the reduced birth rate observed in 2000 compared with those in previous years.

Response: At this time, NMFS has been preparing reports presenting information on the gray whale strandings. Unfortunately, these reports will not be finalized in time to include the results in the SAR for 2000. NMFS includes a brief update of the recent stranding level in the 2000 SAR and will provide a full discussion of the topic when the gray whale SAR next undergoes a comprehensive review.

Comment 2:The inclusion of observations of entangled gray whales, including incidents that were not deemed “serious injury”, was very helpful in understanding the incidence of entanglements.

Response: Comment noted.

Comment 3: NMFS should include habitat concerns for the gray whale stock, including possible impacts of whale watching and issues of concern in Mexican breeding areas.

Response: NMFS will consider this comment when the gray whale SAR next undergoes a comprehensive review and revision.

Atlantic Regional SAR

Comment 1: In reference to a fin whale entanglement reported in the SAR, one commenter noted that for other species (e.g., bottlenose dolphins and right whales), the animal's injury or death would have been considered (at least in part) as fishery-related. The commenter requested that NMFS treat fin whales equivalently to other species with regard to suspicion of fishery-related mortalities.

Response: The fin whale being referred to showed little evidence that entanglement was the cause of death; therefore, NMFS determined that this was not a fishery-related death and did not include it as fishery mortality in the SAR.

Comment 2: One commenter stated that it was inappropriate to lump species of beaked whales and pilot whales in mortality and abundance estimates.

Response: Current data do not allow species- or stock-specific mortality and abundance estimates at this time. NMFS is working on methods to enable such estimates. Until NMFS has developed a means to distinguish among species during surveys, abundance estimates will estimate the species groupings. NMFS anticipates being able to calculate species-specific mortality estimates for beaked whales in the draft 2001 SARs.

Comment 3: It was noted that there was no discussion on the impact of naval activities on beaked whales.

Response: Information and references pertaining to beaked whale strandings and mortality associated with naval activities will be included in the draft 2001 reports.

Comment 4: One commenter recommended specific additional information to be included in the reports for bottlenose dolphins (for both the western north Atlantic offshore and coastal stocks); these suggestions are related to evidence for stock separation between the two stocks and to discussions of population trends, fishery information, and status of the coastal stock.

Response: No new information is available that would allow a more accurate determination of the status of these stocks. Therefore, the reports were not modified to address these comments. Revision of the reports for these stocks is scheduled for 2002.

Comment 5: Reports of human-induced mortality around aquaculture sites in Maine and eastern Canada and stranding mortality attributable to human activities in U.S. waters suggest that harbor seal mortality approaches or exceeds PBR.

Response: NMFS recognizes the existence of unreported human-induced mortality of harbor seals. However, no sampling or reporting programs exist that can be used to quantify the level of intentional shooting of seals around U.S. aquaculture sites. Further, NMFS is not aware of data that document human-caused mortality around Canadian aquaculture sites. Stranding data are under review, and appropriate levels of human-induced mortality will be included in future assessments.

Comment 6: NMFS should clarify whether the Canadian abundance estimate of gray seals used to determine PBR is a minimum population estimate (Nmin) or whether it is a “best” or “point” estimate. Also, NMFS should include information on native hunting and intentional shooting around aquaculture sites.

Response: The Canadian abundance estimate is considered to be Nmin. However, no estimate of the gray seal population in U.S. waters exists. Following the advice of the Atlantic SRG, a proxy PBR was calculated using the Canadian abundance estimate. NMFS is not aware of data to document native removals and other sources of human-induced mortality in Canadian waters. However, if such information becomes available, it would be included in future assessments.

Comment 7: A recent paper in Conservation Biology discusses the use of harp seal population estimates and calculates PBR. The highest PBR (264,000) in that discussion is below the Canadian kill. There is also Canadian information pertaining to Greenland catches and current status of the harp seal population. These data should be included in the SAR.

Response: In April 2000 the Canadian Stock Assessment Secretariat hosted a workshop in Ottawa to review the status of the Northwest Atlantic harp seal population. The workshop findings will be incorporated into the draft 2001 SAR.

Western North Atlantic Right Whales

Comment 1: The 1999 data were missing from the section titled “Current Population Trend.”

Response: The 1999 data have been added to the SAR.

Comment 2: One commenter recommended the inclusion of a recent journal article on the significance of Jeffreys Ledge.

Response: Information contained in the manuscript pertaining to Jeffreys Ledge as a habitat has been included in the draft 2001 SAR.

Comment 3: One comment stated that the section titled “Fishery-related Serious Injury and Mortality” was misleading because the Canadian data were deleted from the calculations. Also, whale #2705 was identified as another injured right whale that should be included in the text.

Response: The inclusion of foreign mortality and serious injury into the SAR has been initiated. NMFS' staff plan to meet with Canadian scientists to coordinate standardized reporting procedures to ensure that Canadian data on mortality and serious injuries are available for future SARs. Relative to whale #2705, this whale, which lost most of its fluke to a mechanical injury, was re-sighted in the Bay of Fundy in summer 2000 and appears to be healthy at present despite the severe injury. Therefore, it was not included in a discussion of serious injury (which is defined in regulations at 50 CFR 229.2 as an injury that is likely to result in death) or mortality.

Harbor Porpoise

Comment 1: One comment suggested that if possible, the population size section for harbor porpoise be updated to include results of the 1999 population survey.

Response: The results of the 1999 harbor porpoise abundance survey and associated changes in PBR will be included in the draft 2001 SAR.

Comment 2: One commenter recommended that the SRG analyze the bycatch and stranding data to determine whether takes of harbor porpoise associated with the mid-Atlantic gillnet fisheries are, in fact, below PBR.

Response: Since the best available information indicates that mortality of harbor porpoise is much reduced, NMFS is re-examining mortality along the mid-Atlantic coast to determine whether a bias exists in the estimate. The SAR presents the best information currently available; however, NMFS realizes that the estimate could change when new data are available. The Atlantic SRG reviewed the mortality estimates and agreed that these were the best estimates, given the information that was available. The SRG also recommended that NMFS conduct a power analysis on the observer data to determine the needed level of observer coverage to ensure that mortality is below PBR. NMFS is currently conducting this analysis.

Comment 3: One commenter recommended that the “Status of Stock” section include NMFS' determination that a threatened or endangered listing for harbor porpoise was not warranted and that a status review is scheduled to be completed by 2001.

Response: The report was revised accordingly.

Minke Whales

Comment 1: One commenter asked why the 1995 entanglement records have not been audited yet.

Response: NMFS determined that it was better to complete the 2000 SARs and make them available rather than delay all reports to include specific information in the minke whale SAR. Minke whale records from 1995 have now been completely audited, and the results will be included in the 2001 SAR.

Comment 2: One commenter asked why the minke whale shot in Florida was not included in the stock assessment.

Response: This minke whale was not mentioned in the SAR because NMFS concluded that the gunshot was not a factor in the whale's death.

Comment 3: One comment noted that two minke whales died as a result of ship strikes during the 5-year period; therefore, the average mortality due to ship strikes is 0.4 whales per year not 0.3.

Response: Only one minke whale mortality (in 1998) was caused by ship strike during 1994, 1996, 1997, and 1998. The mean value for this period is 0.25, which was rounded to 0.3.

Humpback Whales

Comment 1: For western north Atlantic humpback whales and minke whales, one commenter recommended that the section titled “Other Mortality” be clarified and updated to include new information contained in a publication, “Collisions Between Ships and Whales”.

Response: Pertinent figures and text from that publication will be incorporated into the draft 2001 SAR and reviewed by the Atlantic SRG. The minke whale report notes that minke whales are struck and killed by ships.

Comment 2: One comment concurred with the renaming of the humpback whale stock as the Gulf of Maine stock but did not support using the western North Atlantic population estimate for determining PBR.

Response: NMFS had insufficient data to calculate an estimate of abundance (and therefore a PBR) for the newly defined stock. As data become sufficient for an abundance estimate, NMFS will calculate an appropriate PBR for the stock.

Comment 3: NMFS should complete analysis of the photo-identification data to resolve the stock question regarding Scotian Shelf animals.

Response: The analysis has been completed and the results will be included in the draft 2001 SARs.

Pacific Regional SAR

Comment 1: One commenter remarked that, for a number of stock assessments, a decline in overall cetacean entanglement rates in the California/Oregon drift gillnet fishery was noted after implementation of a 1997 Take Reduction Plan even for those stocks for which mortality was already at zero or increased in recent years.

Response: The statement was inserted to explain why only a limited set of data (1997-1998) was used for mortality estimates in the drift gillnet fishery. The wording has been revised to clarify the intent.

Comment 2: One commenter stated that there was no discussion of unusual mortality events for the California sea lion.

Response: A brief discussion of sea lion mortalities attributed to domoic acid in central California has been included in the sea lion report.

Comment 3: One commenter noted the paucity of abundance information related to Hawaiian cetaceans and recommended that surveys be designed and conducted soon.

Response: NMFS has designed surveys for estimating abundance of Hawaiian cetacean stocks and will conduct the surveys when funds become available. In the interim, NMFS has collaborated with Hawaiian researchers in the analysis of near-shore cetacean aerial surveys and is supporting a small research project in the mid-island area.

Hawaiian Monk Seal

Comment 1: One commenter suggested that estimates of Hawaiian monk seal abundance at Necker and Nihoa be reduced to account for the possibility that seals are double-counted (at both French Frigate Shoals and either Necker or Nihoa).

Response: The French Frigate Shoals estimate is based upon enumeration of all animals identified, while the Necker/Nihoa estimates are based upon occasional irregular surveys. Although some individuals could be double counted at Necker and Nihoa, the correction for this small overestimate is unnecessary. First, these islands represent only a small portion of the total abundance. Second, the potential positive bias is likely offset by underestimates at other sites. Finally, the SAR notes that PBR is not used in the conservation of Hawaiian monk seals.

Comment 2: One commenter asked for a clarification regarding trends in the pelagic longline fishery around Hawaii.

Response: Appendix 1 (Description of U.S. Commercial Fisheries) of the stock assessment reports states that overall effort (hooks set) increased from 1994 to 1998. The number of hooks that were set by the fishery increased steadily since 1994 and peaked in 1998 at 17.4 million.

Comment 3: One commenter requested the inclusion of extensive data on lobster catch levels and trends at several locations, including information on species and amounts of monk seal prey taken.

Response: The requested information is published annually in reports on the Western Pacific Lobster Fishery, the most recent of which is cited in the monk seal stock assessment report. Also, information on past lobster catch levels, which had been selected for deletion, has been reinstated.

Comment 4: One commenter recommended the inclusion of preliminary results from fatty acid signature analysis in order to address the potential importance of lobster in the diet of monk seals.

Response: Preliminary discussion of fatty acid analysis and its potential for identifying the importance of lobsters in the diet of monk seals has been reinstated in the final stock assessment report.

Comment 5: One commenter recommended that NMFS contact Canadian officials and attempt to obtain data on fishery-related mortality for harbor porpoise, Inland Washington stock, that may be occurring in Canada.

Response: In response to requests by NMFS for annual fishery-related mortality data, Canadian authorities have responded that these data are not collected and, thus, are unavailable.

Comment 6: One commenter questioned the reasoning for changing the status of short-finned pilot whales from strategic to non-strategic, given some uncertainties surrounding the effectiveness of pingers (the one mortality observed in 1997 was in a pingered net). It was also recommended that this stock be reviewed on an annual basis until the effectiveness of pingers can be fully evaluated.

Response: Because the annual level of human-caused mortality remains below PBR, this stock is defined as non-strategic. NMFS will continue to review the incidental mortality of all stocks each year and will revise stock assessment reports if a change in status is justified by new data.

Comment 7: One commenter recommended the inclusion of information on the recent concerns over the potential impacts of low frequency active sonar (LFAS) on beaked whales.

Response: NMFS has inserted language reflecting recent concerns over LFAS for beaked whale stocks.

Comment 8: One commenter expressed concern that the PBR for Blainville's beaked whale, Hawaiian stock, is only 0.4 per year, with at least two fishery interactions observed (extrapolated to an average of nine per year), with the caveat that it is not clear whether other hooked odontocetes may have been Blainville’s beaked whales. The commenter also questioned whether or not Blainville’s beaked whales should be a non-strategic stock.

Response: The entanglement of two unidentified cetaceans was mentioned in the stock assessment report for completeness, but they were not identified as Blainville’s beaked whales. In the absence of confirmed fishery-related mortality of Blainville’s beaked whales, this stock will remain non-strategic. NMFS will continue to review the incidental mortality of all stocks each year and will revise stock assessment reports if a change in status is justified by new data.

Harbor Seals

Comment 1: One commenter requested an explanation of the validity of using 1990-94 kill rates from the set gillnet fishery to estimate harbor seal (California stock) mortality during 1995-1998 when the fishery was not observed.

Response: The lack of an observer program in this fishery did not allow for the estimation of kill rates during 1995-98. In the absence of an observer program, the most conservative method to estimate 1995-98 mortality is to use 1990-94 kill rates from the time when the fishery was permitted to operate within 3 nautical miles of shore and interactions with harbor seals were more likely. Although this approach is not ideal, it does use the best available information in this case.

Comment 2: One commenter suggested that a method for estimating harbor seal mortality from “unmonitored hauls” be developed for the groundfish trawl fishery.

Response: NMFS has established a sampling protocol, which is based on monitored hauls, for estimating incidental mortality and serious injury for the groundfish trawl fishery. In most years, NMFS uses the estimated mortality calculated from this sampling protocol. The observed mortality rate (observed kills per haul) is very low, and occasionally there is no observed mortality in the monitored hauls and one or more recorded kills in unmonitored hauls. When this situation occurs, NMFS uses the total number of observed mortalities as a minimum level of mortality for the affected year.

Comment 3: One commenter requested a clarification regarding changes within the Washington and Oregon lower Columbia River drift gillnet fishery and their impact on incidental mortality levels.

Response: The appropriate text in the report has been edited in an attempt to make the meaning clearer.

Comment 4: One commenter requested that the language stating that the Oregon component of the harbor seal stock is within its Optimum Sustainable Population be removed, citing a lack of quantitative support for this statement.

Response: The statement has been revised.

Comment 5: One commenter requested a clarification on whether self-reports of harbor seal (Inland Washington stock) mortalities in salmon net pens represented entanglements or animals being shot by pen operators.

Response: The reported harbor seal mortalities in salmon net pens in 1997 and 1998 were caused by entanglements.

Killer Whales

Comment 1: One commenter expressed concerns that unmonitored hauls in the longline fishery are not used to estimate mortality levels for the eastern north Pacific transient stock.

Response: NMFS has established a sampling protocol, which is based on monitored hauls, for estimating incidental mortality and serious injury for the longline fishery. In most years, NMFS uses the estimated mortality calculated from this sampling protocol. The observed mortality rate (observed kills per haul) is very low, and occasionally there are no or very few observed mortalities in the monitored hauls and one or more recorded kills in unmonitored hauls. When this situation occurs, NMFS uses the total number of observed mortalities as a minimum level of mortality for the affected year.

Comment 2: One commenter noted that the eastern north Pacific southern resident stock of killer whales appears to be in decline and requested that NMFS speculate on possible causes.

Response: NMFS sponsored a Southern Resident Killer Whale Workshop in Seattle, WA, on 1-2 April 2000. Workshop participants discussed possible factors influencing killer whale populations, including contaminant levels, whale-watching activities, and the availability of prey resources. Text and references pertaining to this meeting have been added to the report.

Electronic Access

All stock assessment reports and the guidelines for preparing them are available via the Internet at http://www.nmfs.noaa.gov/prot_res/PR2/ Stock_Assessment_Program/sars.html

Dated: March 7, 2001.
Wanda Cain,
Acting Deputy Director, Office of Protected Resources National Marine Fisheries Service.

[FR Doc. 01-6452 Filed 3-14-01; 8:45 am]

BILLING CODE 3510-22-S